DEPARTMENT OF JUSTICE

National Institute of Corrections

Advisory Board Meeting

Time and Date: 8:30 a.m. to 5 p.m. on Monday, March 4, 2002 & 8:30 a.m. to 12 noon on Tuesday, March 5, 2002.

Place: Portland Marriott Downtown, 1401 S.W. Naito Parkway, Portland, Oregon 97201.

Status: Open.

Matters to be Considered: Presentations on an initiative addressing transition from prison to community, including the Oregon Model and the Multnomah County Data Warehouse Project; election of new officers; division reports on FY 2003 Service Plan and FY 2004 budget recommendations; and update on Interstate Compact activities.

CONTACT PERSON FOR MORE INFORMATION: Larry Solomon, Deputy Director, 202-307-3106, ext. 44254.

Morris L. Thigpen,
Director.

[FR Doc. 02-5015 Filed 3-1-02; 8:45 am]

BILLING CODE 4410-36-M